INTERNATIONAL TRADE COMMISSION

[Investigation No. 337-TA-1072]

Certain Wi-Fi Enabled Electronic Devices and Components Thereof; Commission Determination Not To Review an Initial Determination Terminating the Investigation Based on Withdrawal of the Allegations in the Complaint; Termination of the Investigation

AGENCY: U.S. International Trade Commission.

ACTION: Notice.

SUMMARY: Notice is hereby given that the U.S. International Trade Commission has determined not to review an initial determination (“ID”) (Order No. 6) of the presiding administrative law judge (“ALJ”), terminating the above-captioned investigation based on withdrawal of the allegations in the complaint. The Commission has also determined to terminate the investigation.

FOR FURTHER INFORMATION CONTACT: Clint Gerdine, Esq., Office of the General Counsel, U.S. International Trade Commission, 500 E Street SW, Washington, DC 20436, telephone (202) 708-2310. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on October 3, 2017, based on a complaint filed on behalf of Sharp Corporation of Osaka, Japan and Sharp Electronics Corporation of Montvale, New Jersey. 82 FR 46088-89. The complaint, as supplemented, alleges violations of section 337 of the Tariff Act of 1930, as amended, 19 U.S.C. 1337, based upon the importation into the United States, the sale for importation, and the sale within the United States after importation of certain Wi-Fi enabled electronic devices and components thereof by reason of infringement of U.S. Patent Nos. 8,325,838 and 8,279,809. The complaint further alleges that a domestic industry exists. The Commission's notice of investigation named as respondents Hisense Co., Ltd. and Hisense Electric, Co. Ltd., both of Qingdao, China; Hisense International (Hong Kong) Co. Ltd. of Sheung Wan, Hong Kong; Hisense USA Corporation, Hisense Electronics Manufacturing Company of America Corporation, and Hisense USA Multimedia R&D Center, Inc., all of Suwanee, Georgia; and Hisense Inc. of Huntington Beach, California. The Office of Unfair Import Investigations (“OUII”) is participating in the investigation.

On December 22, 2017, complainants filed an unopposed motion to terminate the investigation based on a withdrawal of the allegations in the complaint. In the motion, the complainant states that there are no other agreements, written or oral, express or implied between the parties concerning the subject matter of the investigation. Respondents and OUII filed responses in support of the motion.

The ALJ issued the subject ID on February 5, 2018, granting the unopposed motion for termination. He found that the motion satisfied Commission Rule 210.21(a)(1) (19 CFR 210.21(a)(1)) and that there are no extraordinary circumstances that warrant denying the motion. No party petitioned for review of the subject ID.

The Commission has determined not to review the ID and has terminated the investigation.

The authority for the Commission's determination is contained in section 337 of the Tariff Act of 1930, as amended, 19 U.S.C. 1337, and in part 210 of the Commission's Rules of Practice and Procedure, 19 CFR part 210.

By order of the Commission.
Issued: March 6, 2018.
Lisa R. Barton,
Secretary to the Commission.

[FR Doc. 2018-04794 Filed 3-8-18; 8:45 am]

BILLING CODE 7020-02-P